DEPARTMENT OF ENERGY

[Docket Nos. 11-59-LNG and 16-110-LNG]

Lake Charles Exports, LLC; Application To Amend Existing Long-Term Authorizations To Export Liquefied Natural Gas to Non-Free Trade Agreement Countries

AGENCY: Office of Fossil Energy and Carbon Management, Department of Energy.

ACTION: Notice of application.

SUMMARY: The Office of Fossil Energy and Carbon Management (FECM) (formerly the Office of Fossil Energy) of the Department of Energy (DOE) gives notice (Notice) of receipt of an application (Application), filed on June 21, 2022, by Lake Charles Exports, LLC (LCE). LCE requests to amend its existing authorizations to export domestically produced liquefied natural gas (LNG) to non-free trade agreement countries set forth in DOE/FE Order Nos. 3324-A and 4011 (both as amended). Specifically, LCE seeks to amend the commencement of operations deadline in each order. LCE filed the Application under the Natural Gas Act (NGA). Protests, motions to intervene, notices of intervention, and written comments are invited.

DATES: Protests, motions to intervene, or notices of intervention, as applicable, and written comments are to be filed electronically as detailed in the Public Comment Procedures section no later than 4:30 p.m., Eastern time, August 11, 2022.

ADDRESSES:

Electronic Filing by email: fergas@hq.doe.gov.

Although DOE has routinely accepted public comment submissions through a variety of mechanisms, including postal mail and hand delivery/courier, DOE has found it necessary to make temporary modifications to the comment submission process in light of the ongoing Covid-19 pandemic. DOE is currently accepting only electronic submissions at this time. If a commenter finds that this change poses an undue hardship, please contact Office of Resource Sustainability staff at (202) 586-4749 or (202) 586-7893 to discuss the need for alternative arrangements. Once the Covid-19 pandemic health emergency is resolved, DOE anticipates resuming all of its regular options for public comment submission, including postal mail and hand delivery/courier.

FOR FURTHER INFORMATION CONTACT:

Jennifer Wade or Peri Ulrey, U.S. Department of Energy (FE-34), Office of Regulation, Analysis, and Engagement, Office of Resource Sustainability, Office of Fossil Energy and Carbon Management, Forrestal Building, Room 3E-042, 1000 Independence Avenue SW, Washington, DC 20585, (202) 586-4749 or (202) 586-7893, jennifer.wade@hq.doe.gov or peri.ulrey@hq.doe.gov.

Kavita Vaidyanathan, U.S. Department of Energy (GC-76), Office of the Assistant General Counsel for Energy Delivery and Resilience, Forrestal Building, Room 6D-033, 1000 Independence Avenue SW, Washington, DC 20585, (202) 586-0669, kavita.vaidyanathan@hq.doe.gov.

SUPPLEMENTARY INFORMATION: LCE is authorized to export domestically produced LNG by vessel from the Lake Charles Terminal, located in Lake Charles, Louisiana, to any country with which the United States has not entered into a free trade agreement (FTA) requiring national treatment for trade in natural gas, and with which trade is not prohibited by U.S. law or policy (non-FTA countries), pursuant to NGA Section 3(a),¹ under the following orders and their amendments:

¹ 15 U.S.C. 717b(a).

• DOE/FE Order No. 3324-A (Docket No. 11-59-LNG), in a volume equivalent to 730 billion cubic per year (Bcf/yr) of natural gas; ² and

² Lake Charles Exports, LLC, DOE/FE Order No. 3324-A, Docket No. 11-59-LNG, Final Opinion and Order Granting Long-Term, Multi-Contract Authorization to Export Liquefied Natural Gas by Vessel from the Lake Charles Terminal in Calcasieu Parish, Louisiana to Non-Free Trade Agreement Nations (July 29, 2016), amended by DOE/FE Order No. 3324-B (Oct. 6, 2020) (amending the commencement of operations deadline), https://www.energy.gov/sites/prod/files/2016/07/f33/ord3324a.pdf.

• DOE/FE Order No. 4011 (Docket No. 16-110-LNG), in a volume equivalent to 121 Bcf/yr of natural gas.³

³ Lake Charles Exports, LLC, DOE/FE Order No. 4011, Docket No. 16-110-LNG, Opinion and Order Granting Long-Term, Multi-Contract Authorization to Export Liquefied Natural Gas by Vessel From the Lake Charles Terminal in Lake Charles, Louisiana, to Free Trade Agreement and Non-Free Trade Agreement Nations (June 29, 2017), amended by DOE/FE Order No. 4011-A (Oct. 6, 2020) (amending the commencement of operations deadline), https://www.energy.gov/sites/prod/files/2017/06/f35/ord4011.pdf. The portion of this order authorizing LCE to export LNG to FTA countries is not subject to this Notice. See 15 U.S.C. 717b(c).

In the Application,⁴ LCE seeks to amend the existing commencement of operations deadline in both orders as follows:

⁴ Lake Charles Exports, LLC, Application to Amend Existing Long-Term Authorizations to Export Liquefied Natural Gas to Non-Free Trade Agreement Countries, Docket Nos. 11-59-LNG and 16-110-LNG (June 21, 2022), https://www.energy.gov/sites/default/files/2022-06/LCE%20Amendment%20Application%20Re%20Commencement%20Date.pdf. The Application also applies to LCE's existing FTA orders in Docket Nos. 11-59-LNG and 16-110-LNG, but DOE will address the FTA portions of the Application separately pursuant to NGA section 3(c), 15 U.S.C. 717b(c).

• In DOE/FE Order No. 3324-A, to extend the commencement deadline from December 16, 2025 to December 16, 2028; and

• In DOE/FE Order No. 4011 to extend the commencement deadline from December 16, 2025 to December 16, 2028.

In support of this Application, LCE states that, on May 6, 2022, the Federal Energy Regulatory Commission (FERC) issued an order granting LCE's request for an extension of time until December 16, 2028, to construct the Lake Charles Terminal liquefaction facilities and make it available for service (FERC 2022 Extension Order).⁵ LCE requests that DOE amend Order Nos. 3324-A and 4011 so that LCE must commence export operations using the planned liquefaction facilities no later than December 16, 2028—to align with the FERC 2022 Extension Order. LCE also identifies the actions it has taken to date to proceed with the construction and operation of the Lake Charles Terminal liquefaction facilities. Additional details can be found in the Application, posted on the DOE website at: www.energy.gov/sites/default/files/2022-06/LCE%20Amendment%20Application%20Re%20Commencement%20Date.pdf.

⁵ Lake Charles LNG Company, LLC, et al., 179 FERC ¶ 61,086 (2022), https://elibrary.ferc.gov/eLibrary/filelist?accession_number=20220506-3073.

DOE Evaluation

In reviewing LCE's Application, DOE will consider any issues required by law or policy under NGA section 3(a). To the extent appropriate, DOE will consider the study entitled, Macroeconomic Outcomes of Market Determined Levels of U.S. LNG Exports (2018 LNG Export Study),⁶ DOE's response to public comments received on that Study,⁷ and the following environmental documents:

⁶ See NERA Economic Consulting, Macroeconomic Outcomes of Market Determined Levels of U.S. LNG Exports (June 7, 2018), https://www.energy.gov/sites/prod/files/2018/06/f52/Macroeconomic%20LNG%20Export%20Study%202018.pdf.

⁷ U.S. Dep't of Energy, Study on Macroeconomic Outcomes of LNG Exports: Response to Comments Received on Study; Notice of Response to Comments, 83 FR 67251 (Dec. 28, 2018), https://www.govinfo.gov/content/pkg/FR-2018-12-28/pdf/2018-28238.pdf.

• Addendum to Environmental Review Documents Concerning Exports of Natural Gas From the United States, 79 FR 48132 (Aug. 15, 2014); ⁸

⁸ The Addendum and related documents are available at: https://www.energy.gov/fecm/addendum-environmental-review-documents-concerning-exports-natural-gas-united-states.

• Life Cycle Greenhouse Gas Perspective on Exporting Liquefied Natural Gas From the United States, 79 FR 32260 (June 4, 2014); ⁹ and

⁹ The 2014 Life Cycle Greenhouse Gas Report is available at: https://www.energy.gov/fecm/life-cycle-greenhouse-gas-perspective-exporting-liquefied-natural-gas-united-states.

• Life Cycle Greenhouse Gas Perspective on Exporting Liquefied Natural Gas From the United States: 2019 Update, 84 FR 49278 (Sept. 19, 2019), and DOE's response to public comments received on that study.¹⁰

¹⁰ U.S. Dep't of Energy, Life Cycle Greenhouse Gas Perspective on Exporting Liquefied Natural Gas From the United States: 2019 Update—Response to Comments, 85 FR 72 (Jan. 2, 2020). The 2019 Update and related documents are available at: https://fossil.energy.gov/app/docketindex/docket/index/21.

Parties that may oppose the Application should address these issues and documents in their comments and/or protests, as well as other issues deemed relevant to the Application.

The National Environmental Policy Act (NEPA), 42 U.S.C. 4321 et seq., requires DOE to give appropriate consideration to the environmental effects of its proposed decisions. No final decision will be issued in this proceeding until DOE has met its environmental responsibilities.

Public Comment Procedures

In response to this Notice, any person may file a protest, comments, or a motion to intervene or notice of intervention, as applicable, addressing the Application. Interested parties will be provided 15 days from the date of publication of this Notice in which to submit comments, protests, motions to intervene, or notices of intervention. The public previously was given an opportunity to intervene in, protest, and comment on LCE's long-term non-FTA applications. Therefore, DOE will not consider comments or protests that do not bear directly on the Application.

Any person wishing to become a party to the proceeding must file a motion to intervene or notice of intervention. The filing of comments or a protest with respect to the Application will not serve to make the commenter or protestant a party to the proceeding, although protests and comments received from persons who are not parties will be considered in determining the appropriate action to be taken on the Application. All protests, comments, motions to intervene, or notices of intervention must meet the requirements specified by the regulations in 10 CFR part 590, including the service requirements.

As noted, DOE is only accepting electronic submissions at this time. Please email the filing to fergas.hq.doe.gov. All filings must include a reference to “Docket Nos. 11-59-LNG and 16-110-LNG” or “Lake Charles Exports, LLC Commencement Amendment” in the title line.

PLEASE NOTE: Please include all related documents and attachments (e.g., exhibits) in the original email correspondence. Please do not include any active hyperlinks or password protection in any of the documents or attachments related to the filing. All electronic filings submitted to DOE must follow these guidelines to ensure that all documents are filed in a timely manner. Any hardcopy filing submitted greater in length than 50 pages must also include, at the time of the filing, a digital copy on disk of the entire submission.

The Application and any filed protests, motions to intervene, notices of interventions, and comments will also be available electronically by going to the following DOE Web address: www.energy.gov/fecm/regulation.

A decisional record on the Application will be developed through responses to this Notice by parties, including the parties' written comments and replies thereto. Additional procedures will be used as necessary to achieve a complete understanding of the facts and issues. If an additional procedure is scheduled, notice will be provided to all parties. If no party requests additional procedures, a final Opinion and Order may be issued based on the official record, including the Application and responses filed by parties pursuant to this Notice, in accordance with 10 CFR 590.316.

Signed in Washington, DC, on July 21, 2022.
Amy Sweeney,
Director, Office of Regulation, Analysis, and Engagement, Office of Resource Sustainability.

[FR Doc. 2022-16084 Filed 7-26-22; 8:45 am]

BILLING CODE 6450-01-P